Title 3—

The President

Proclamation 7281 of March 17, 2000

National Poison Prevention Week, 2000

By the President of the United States of America

A Proclamation

Children face many dangers growing up, including some which we cannot foresee or prevent. But the danger of accidental poisoning from medicines, household chemicals, or other substances used routinely in the home is something we can—and must—stop. Each year during National Poison Prevention Week, we assess our progress in saving lives and reaffirm our national commitment to preventing injuries or deaths from poisoning.

We have indeed made progress in the nearly 4 decades since the Congress first authorized this annual observance. In 1962, almost 450 children died of poisoning after swallowing medicines or household chemicals. By 1996, that tragic statistic had been reduced to 47. Our goal is to reduce it to zero.

The first and most effective means to achieving this goal is the proper use of child-resistant packaging, which the Consumer Product Safety Commission requires for many medicines and household chemicals. While this special packaging is child-resistant, however, it is not childproof; therefore, it is essential that adults keep potentially poisonous substances locked away from children.

Our second line of defense is America's poison control centers, where lifesaving information is only a phone call away. If a poisoning does occur, parents or other caregivers can call one of these centers and immediately learn the appropriate actions to take to mitigate the poison's effects. Last month, I was proud to sign into law the Poison Control Center Enhancement and Awareness Act, which authorizes $140 million over the next 5 years to fund our Nation's poison control centers, to carry out a national public awareness campaign, and to establish a national toll-free poison control hotline. Each year, more than 2 million poisonings are reported, a million of which involve children, and this new funding will ensure that callers have immediate access to the vital services and information they need to save lives.

I thank the Poison Prevention Week Council, which brings together 35 national organizations to distribute poison prevention information to pharmacies, public health departments, and safety organizations nationwide, for its vital role in the progress Americans have made in reducing accidental poisonings. By following its lead, properly using child-resistant packaging, keeping poisonous substances locked away from children, and keeping the number of a poison prevention center close by the telephone, we can greatly reduce accidental poisonings.

To encourage the American people to learn more about the dangers of accidental poisonings and to take responsible preventive measures, the Congress, by joint resolution approved September 26, 1961 (75 Stat. 681), has authorized and requested the President to issue a proclamation designating the third week of March of each year as “National Poison Prevention Week.”

NOW, THEREFORE, I, WILLIAM J. CLINTON, President of the United States of America, do hereby proclaim the week beginning March 19, 2000, as National Poison Prevention Week. I call upon all Americans to observe this week by participating in appropriate programs and activities and by learning how to protect our children from poisonous substances.

IN WITNESS WHEREOF, I have hereunto set my hand this seventeenth day of March, in the year of our Lord two thousand, and of the Independence of the United States of America the two hundred and twenty-fourth.

wj

[FR Doc. 00-7183

Filed 3-20-00; 11:31 am]

Billing code 3195-01-P